DEPARTMENT OF ENERGY

Federal Energy Regulatory Commission

[Docket No. CP10-97-000]

Northern Natural Gas Company; Notice of Request Under Blanket Authorization

March 16, 2010.

Take notice that on March 12, 2010, Northern Natural Gas Company (Northern), 1111 South 103rd Street, Omaha, Nebraska 68124, filed in Docket No. CP10-97-000, a prior notice request pursuant to sections 157.205 and 157.216 of the Federal Energy Regulatory Commission's regulations under the Natural Gas Act for authorization to abandon a compressor station and appurtenant facilities, located in Finney County, Kansas, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Specifically, Northern proposes to abandon in-place the Holcomb Compressor Station and appurtenant facilities. Northern states that the Holcomb Compressor Station has not been operated in the previous twelve months and therefore has not provided service in the previous twelve months. Northern asserts that no service to existing customers will be impacted nor will Northern's operations be adversely impacted as a result of the proposed abandonment.

Any questions regarding the application should be directed to Michael T. Loeffler, Senior Director, Certificates and External Affairs, Northern Natural Gas Company, 1111 South 103rd Street, Omaha, Nebraska 68124, at (402) 398-7103 or Bret Fritch, Senior Regulatory Analyst, at (402) 398-7140.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. 2010-6233 Filed 3-19-10; 8:45 am]

BILLING CODE 6717-01-P